DEPARTMENT OF HEALTH AND HUMAN SERVICES

Centers for Medicare & Medicaid Services

[CMS-9951-N]

HHS-Operated Risk Adjustment Data Validation Stakeholder Meeting

AGENCY: Centers for Medicare & Medicaid Services (CMS), HHS.

ACTION: Notice.

SUMMARY: This notice announces a public meeting on the Affordable Care Act HHS-operated risk adjustment data validation process. The purpose of this public meeting is to provide opportunity to discuss the HHS risk adjustment data validation process that will be conducted when HHS operates the risk adjustment program on behalf of a state under the Affordable Care Act. The meeting will provide information to stakeholders including, but not limited to, issuers, states, and other interested parties about key HHS policy considerations pertaining to the HHS-operated risk adjustment data validation process and will also provide an opportunity for participants to ask clarifying questions. The stakeholder meeting is being offered as both an in-person meeting and web conference for those unable to attend in person. The comments and information that we obtain through this meeting may aid future policy-making for the HHS-operated risk adjustment data validation process.

DATES: Meeting Date: The HHS-Operated Risk Adjustment Data Validation Stakeholder Meeting will take place on: Tuesday, June 25, 2013, from 9:30 a.m. to 2 p.m., eastern daylight time (e.d.t.).

ADDRESSES: Meeting Location: The public meeting will be held in the Multi-Purpose Room of the central building of the Centers for Medicare & Medicaid Services (CMS), 7500 Security Boulevard, Baltimore, MD 21244.

FOR FURTHER INFORMATION CONTACT: REGTAP Registrar at 1-800-257-9520 between the hours of 9:00 a.m. and 5:00 p.m., e.d.t. Please note that this office is closed on weekends and federal holidays. Please send inquiries about the logistics of the meeting to registrar@REGTAP.info. Inquiries and comments pertaining to content covered during the meeting should be submitted in REGTAP using “My Dashboard” to select “Submit an Inquiry,” then select “Risk Adjustment Data Validation Stakeholder Meeting” to enter the question or comment. Users may submit their comments and upload attachments as needed. Users will receive an acknowledgement that the comment was received. Press inquiries are handled through our press office at (202) 690-6343.

SUPPLEMENTARY INFORMATION: Registration: Registration will be on a first-come, first-serve basis, limited to one participant per organization for the on-site option and three participants per organization for the web conference. Individuals may only register for either the on-site option or the web conference, not both. If an individual is wait-listed for one option, the registration must be cancelled before attempting to register for the other option. Registration deadlines are as follows:

• On-site Participation: Register by June 7, 2013, 5 p.m., e.d.t.

• Web Conference Participation: Register by June 19, 2013, 5 p.m., e.d.t.

• Special Accommodations: The deadline to request a special accommodation is June 19, 2013, 5 p.m., e.d.t.

• Deadline for Attendees that are Foreign Nationals Registration: Attendees that are foreign nationals (as described in section III. of this notice) are required to identify themselves as such, and provide the necessary information for security clearance (as described in section III. of this notice) to registrar@REGTAP.info at least 12 business days in advance of the date of the public meeting date. Therefore, the deadline for attendees that are foreign nationals is June 10, 2013, 5 p.m., e.d.t.

Registration Instructions: To register for either in-person or web conference participation, visit the Registration for Technical Assistance Portal at www.REGTAP.info. Individuals must register as a user, if not already registered then go to “My Dashboard” and select “Training Events” to register for on-site or web conference. Registrants may only register for either the on-site session at CMS's headquarters or the web conference. If you are a potential auditor for the Initial Validation Audit process, please select “Auditor/Initial Validation Auditor” for the organization type when registering.

I. Background

This notice announces a meeting regarding the HHS-operated risk adjustment data validation process. Section 1343 of the Affordable Care Act establishes three programs (transitional reinsurance, temporary risk corridors, and permanent risk adjustment) intended to help stabilize premiums in the insurance market and minimize the potential effects of adverse selection that may occur in the initial operational years of the marketplaces and market reform which will begin with the 2014 benefit year. This meeting focuses on the data validation process for the permanent risk adjustment program when HHS operates a risk adjustment program on behalf of a state (referred to as the HHS-operated risk adjustment program). Health insurance issuers must comply with these risk adjustment data validation requirements in the first year of the program, the 2014 benefit year.

On March 11, 2013, we published a final regulation, the HHS Notice of Benefit and Payment Parameters for 2014 (also referred to as the 2014 payment notice) (78 FR 15410), that established the regulatory framework for the risk adjustment data validation audit process for the HHS-operated risk adjustment program. Although the overall framework for the six-stage risk adjustment data validation process was described in the 2014 payment notice, the detailed processes for several of these stages have not been specified. We committed to stakeholder engagement in developing the detailed processes. The purpose of this meeting is to provide information to issuers, states, and other interested parties about the HHS-operated risk adjustment data validation process and offer an opportunity for these stakeholders to comment on key elements of the risk adjustment data validation process.

II. Meeting Agenda

The risk adjustment data validation meeting will provide information to stakeholders including, but not limited to, issuers, states, and other interested parties about the Affordable Care Act HHS-operated risk adjustment data validation process and gather feedback on key elements of the HHS-operated risk adjustment data validation process. The stakeholder meeting will focus on topics including, but not limited to, data validation audit standards, sampling, initial and second validation audits, appeals, and error rates. The meeting is open to the public, but attendance is limited to the space available. There are capabilities for remote access. Persons wishing to attend this meeting must register by the date listed in the “Registration” section above, and by visiting www.REGTAP.info.

III. Security, Building, and Parking Guidelines

The meeting will be held within the CMS Complex, which is not open to the general public. Visitors to the complex are required to show a valid U.S. Government issued photo identification, preferably a driver's license, at the time of entry. Participants will also be subject to a vehicular search before access to the complex is granted. Participants not in possession of a valid identification or who are in possession of prohibited items will be denied access to the complex. Prohibited items on Federal property include, but are not limited to, alcoholic beverages, illegal narcotics, explosives, firearms or other dangerous weapons (including pocket knives), and dogs or other animals (except service animals). Once cleared for entry to the complex, participants will be directed to parking by a security officer.

To ensure expedited entry into the building, it is recommended that participants have their ID and a copy of their written meeting registration confirmation readily available and that they do not bring laptops or large/bulky items into the building. Participants are reminded that photography on the CMS complex is prohibited. CMS has also been declared a tobacco free campus and violators are subject to legal action. In planning arrival time, we recommend allowing additional time to clear security. Individuals who are not registered in advance will not be permitted to enter the building and will be unable to attend the meeting. The public may not enter the building earlier than 45 minutes before the meeting convenes. Guest access to the CMS complex is limited to the meeting area, the main lobby, and the cafeteria. If a visitor is found outside of those areas without proper escort, they may be escorted by a security officer out of the complex.

Please be mindful that, at the meeting, and subject to the constraints of the meeting agenda and allotted meeting time, there will be an opportunity for individuals to speak, and we request that individuals wait for the appropriate time to present their questions or comments. Disruptive behavior will not be tolerated, and may result in removal from the meeting and/or escort from the complex. Visitors may not attach USB cables, flash/thumb drives, or any other equipment to any CMS information technology (IT) system or hardware for any purpose at anytime. Additionally, CMS staff is prohibited from taking such actions on behalf of a visitor, or utilizing any removable media provided by a visitor.

We cannot assume responsibility for coordinating the receipt, transfer, transport, storage, set-up, safety, or timely arrival of any personal belongings or items used for demonstration or to support a presentation. Special accommodations, arrangements, and approvals to bring pieces of equipment or medical devices are required by June 19, 2013, 5:00 p.m., e.d.t. These arrangements need to be made with the registrar@REGTAP.info. It is possible that certain requests made in advance of the public meeting may be denied because of unique safety, security or handling issues related to the equipment.

CMS policy requires that every foreign national (as defined by the Department of Homeland Security is “an individual who is a citizen of any country other than the United States”) is assigned a host (in accordance with the Department Foreign Visitor Management Policy, Appendix C, Guidelines for Hosts and Escorts). The host/hosting official is required to inform the Division of Critical Infrastructure Protection (DCIP) at least 12 business days in advance of any visit by a foreign national. Foreign nationals will be required to produce a valid passport at the time of entry.

Attendees that are foreign nationals need to identify themselves as such, and provide the following information for security clearance to the registrar@REGTAP.info by the date specified in the “REGISTRATION” section of this notice:

• Visitor's full name (as it appears on passport).

• Gender.

• Country of origin and citizenship.

• Biographical data and related information.

• Date of birth.

• Place of birth.

• Passport number.

• Passport issue date.

• Passport expiration date.

• Dates of visits.

• Company Name.

• Position/Title.

Dated: May 23, 2013.
Marilyn Tavenner,
Acting Administrator, Centers for Medicare & Medicaid Services.

[FR Doc. 2013-12856 Filed 5-28-13; 8:45 am]

BILLING CODE 4120-01-P